DEPARTMENT OF EDUCATION

Privacy Act of 1974; Computer Matching Program Between the Department of Education and the Department of Veterans Affairs

AGENCY: Department of Education.

ACTION: Notice.

SUMMARY: This document provides notice of the continuation of the computer matching program between the Department of Education (ED) (recipient agency) and the Department of Veterans Affairs (VA) (source agency). The continuation is effective on the date in paragraph 5 of this notice.

SUPPLEMENTARY INFORMATION: In accordance with the Privacy Act of 1974, as amended (5 U.S.C. 552a), the following information is provided:

1. Names of Participating Agencies.

ED and VA.

2. Purpose of the Match.

The purpose of this matching program is to assist the Secretary of Education with verification of a veteran's status during the review of applications for financial assistance under title IV of the Higher Education Act of 1965, as amended (HEA).

The Secretary of Education is authorized by the HEA to administer the title IV programs and to enforce the terms and conditions of the HEA.

Section 480(c)(1) of the HEA defines the term “veteran” to mean “any individual who (A) has engaged in the active duty in the United States Army, Navy, Air Force, Marines, or Coast Guard; and (B) was released under a condition other than dishonorable.” (20 U.S.C. 1087vv(c)(1)). Under section 480(d)(1)(D) of the HEA, an applicant who is a veteran (as defined in section 480(c)(1)) is considered an independent student for purposes of title IV, HEA program assistance eligibility, and therefore does not have to provide parental income and asset information to apply for title IV, HEA program assistance. (20 U.S.C. 1087vv(d)(1)(D)).

3. Authority for Conducting the Matching Program.

ED is authorized to participate in the matching program under sections 480(c)(1) and 480(d)(1)(D) of the HEA (20 U.S.C. 1087vv(c)(1) and (d)(1)(D)). VA is authorized to participate in the matching program under 38 U.S.C. 523.

4. Categories of Records and Individuals Covered by the Match.

ED will provide the Social Security number and other identifying information of each applicant for financial assistance under title IV of the HEA who indicates veteran status. This information will be disclosed from the Federal Student Aid Application File system of records (18-11-01), which was most recently published in the Federal Register on August 3, 2011 (76 FR 46774-46781). ED will disclose this information to VA under routine use 14 of the system of records (18-11-01). ED data will be matched against data in the Veterans and Beneficiaries Identification and Records Location Subsystem—VA (38VA21) system of records, under routine use 21, as added to that system of records (38VA21) by a notice published in the Federal Register on June 4, 2001 (66 FR 30049-30050).

5. Effective Dates of the Matching Program.

The matching program will be effective on the latest of the following three dates: (A) June 30, 2016; (B) 30 days from the date ED publishes a Computer Matching Notice in the Federal Register, as required by 5 U.S.C. 552a(e)(12); or, (C) 40 days from the date that ED transmits the report of the matching program, as required by 5 U.S.C. 552a(r), to OMB, the U.S. House Committee on Oversight and Government Reform, and the U.S. Senate Committee on Homeland Security and Governmental Affairs, unless OMB waives 10 or fewer days of this 40-day period for compelling reasons shown by the Department, in which case, 30 days plus the number of days that OMB did not waive from the date of ED's transmittal of the matching program report to OMB and Congress.

The matching program will continue for 18 months after the effective date of the CMA and may be extended for an additional 12 months thereafter, if the conditions specified in 5 U.S.C. 552a(o)(2)(D) have been met.

6. Address for Receipt of Public Comments or Inquiries.

Individuals wishing to comment on this matching program or obtain additional information about the program, including requesting a copy of the CMA between ED and VA, may contact Ms. Marya Dennis, Management and Program Analyst, U.S. Department of Education, Federal Student Aid, Union Center Plaza, Room 63G2, 830 First Street NE., Washington, DC 20202-5454. Telephone: (202) 377-3385.

Accessible Format: If you use a telecommunications device for the deaf or a text telephone, call the Federal Relay Service, toll free, at 1-800-877-8339.

Individuals with disabilities can obtain this document in an accessible format (e.g., braille, large print, audiotape, or compact disc) by contacting the person listed in the preceding paragraph.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically through the advanced search feature at this site, you can limit your search to documents published by the Department.

Dated: May 26, 2016.
James W. Runcie,
Chief Operating Officer, Federal Student Aid.

[FR Doc. 2016-12880 Filed 5-31-16; 8:45 am]

BILLING CODE 4000-01-P